COMMISSION ON CIVIL RIGHTS

Agenda and Notice of Public Meeting of the Kentucky Advisory Committee

Notice is hereby given, pursuant to the provisions of the rules and regulations of the U.S. Commission on Civil Rights (Commission), and the Federal Advisory Committee Act (FACA), that a meeting of the Kentucky Advisory Committee (Committee) to the Commission will convene at 1:30 p.m. and adjourn at 3:30 p.m. on Thursday, May 28, 2009, in Room 340, Gardiner Hall, University of Louisville, Louisville, Kentucky. The purpose of the meeting is for the Committee to discuss its report on voting rights for ex-felons and discuss activity plans for 2010.

Members of the public are entitled to submit written comments. The address is 61 Forsyth St., SW., Suite 18T40, Atlanta, Georgia 30303. Persons wishing to e-mail their comments, present their comments at the meeting, or who desire additional information should contact Dr. Peter Minarik, Regional Director, at (404) 562-7000 or 800-877-8339 for individuals who are deaf, hearing impaired, and/or have speech disabilities or by e-mail to pminarik@usccr.gov.

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, http://www.usccr.gov, or to contact the Southern Regional Office at the above e-mail or street address.

The meeting will be conducted pursuant to the rules and regulations of the Commission and FACA.

Dated in Washington, DC, May 13, 2009.
Christopher Byrnes,
Chief, Regional Programs Coordination Unit.

[FR Doc. E9-11614 Filed 5-18-09; 8:45 am]

BILLING CODE 6335-01-P